DEPARTMENT OF COMMERCE

National Oceanic and Atmospheric Administration

[I.D. 110802D]

Fisheries of the Caribbean, Gulf of Mexico, and South Atlantic; Fisheries for Dolphin and Wahoo

AGENCY: National Marine Fisheries Service (NMFS), National Oceanic and Atmospheric Administration (NOAA), Commerce.

ACTION: Dolphin and wahoo fishery of the U.S. Atlantic coast; request for public comments.

SUMMARY: On June 23, 1999, NMFS, under authority granted to the Secretary of Commerce (Secretary) under the Magnuson-Stevens Fishery Conservation and Management Act, designated the South Atlantic Fishery Management Council (SAFMC) as the council with the administrative lead in jointly preparing and amending a dolphin, Coryphaena hippurus, and wahoo, Acanthocybium solanderi, Fishery Management Plan (FMP) with the Gulf of Mexico (GMFMC) and Caribbean (CFMC) Fishery Management Councils. The New England (NEFMC) and Mid-Atlantic (MAFMC) Fishery Management Councils already indicated their preference not to manage the stocks directly in their area of jurisdiction, but to limit their participation in such an FMP to an advisory capacity to the SAFMC.

Because of continued logistic delays in finalizing and implementing the jointly developed dolphin and wahoo FMP, and because of identified problems specific to the fishery in the SAFMC's area of jurisdiction (the US. Atlantic coast), on July 16, 2002, the SAFMC requested that the Secretary allow the SAFMC to withdraw from joint preparation of a dolphin and wahoo FMP, and that the Secretary re-designate the SAFMC as lead for a dolphin and wahoo FMP encompassing only the U.S. Atlantic coast (i.e. excluding the Gulf of Mexico and U.S. Caribbean regions).

Public comments are solicited concerning the SAFMC's request.

DATES: Comments must be received no later than 4:30 p.m., eastern standard time, on December 23, 2002.

ADDRESSES: Written comments should be sent to Rolland Schmitten, Acting Regional Administrator, Southeast Region, NMFS, 9721 Executive Center Drive N., St. Petersburg, FL 33702. Comments also may be sent via fax to 727-570-5583. Comments will not be accepted if submitted via e-mail or Internet.

FOR FURTHER INFORMATION CONTACT: Dr. Steve Branstetter, 727-570-5305.

SUPPLEMENTARY INFORMATION: On September 15, 1997, the SAFMC requested that the Secretary designate the SAFMC as lead Council to develop a fishery management plan for dolphin and wahoo. On March 9, 1998, (63 FR 11422) and May 5, 1998, (63 FR 24774), NMFS, on behalf of the Secretary, published notices in the Federal Register requesting public comment on the SAFMC's proposal to develop a joint dolphin and wahoo FMP. After considering the SAFMC's request and the public comment received, NMFS designated the SAFMC as the council with the administrative lead in jointly preparing and amending a dolphin and wahoo FMP with the GMFMC and CFMC (64 FR 33468).

The SAFMC's 1997 request to initiate development of a dolphin and wahoo FMP was prompted by public and Congressional concerns regarding possible localized reductions of these two species because of increased harvesting by commercial and recreational fishermen. The SAFMC believed that an FMP was necessary to protect and manage dolphin and wahoo resources and to address user group conflicts. The Magnuson-Stevens Act requires that, to the extent practicable, stocks shall be managed throughout their range. In the case of dolphin and wahoo, the ranges of these stocks extend beyond the SAFMC's area of jurisdiction. For this reason, NMFS initially designated the SAFMC as administrative lead in the development of a joint FMP in cooperation with the GMFMC, CFMC, NEFMC, and MAFMC.

Nevertheless, the National Standard Guidelines (50 CFR 600.320) suggest that alternative management units may be justified if complementary management is planned for other geographic areas or if the unmanaged portion of the stocks are immaterial to proper management within the area under consideration for the alternate management unit, especially if designated alternate management units are specifically relevant to the FMP's objectives.

In the case of the dolphin and wahoo FMP, social and economic issues are identified as the SAFMC's primary objectives in the FMP. The proposed FMP is not attempting to rectify a biological problem with the stocks; neither stock is overfished nor approaching an overfished condition because of overfishing. The SAFMC has specific objectives to: (1) reduce localized reductions in fish abundance, which can have economic and social impacts; (2) minimize market disruptions from intense landings by all sectors; (3) minimize conflicts and competition between recreational and commercial user groups; and (4) optimize social and economic benefits by recognizing and maintaining the historical importance of the recreational fishery.

No similar economic and social issues requiring management have been identified for the Gulf of Mexico and Caribbean areas. In the Gulf of Mexico, about 90 percent of the combined dolphin and wahoo commercial and recreational landings are from the west coast of Florida. Of the two species, dolphin dominate the landings, and Florida has regulations in place that restrict the commercial harvest of dolphin to hook-and-line fishing in state waters (where most of the harvest occurs), thus limiting the potential for user group conflicts. Similarly, catches and landings for both dolphin and wahoo in the Caribbean are minimal compared to the catches in the other areas, and in many instances, the catches are incidental to the catch of targeted species such as billfishes. Therefore, because of anticipated delays in finalizing a joint FMP, which could lead to exacerbated user conflicts in the South Atlantic's area of jurisdiction (U.S. Atlantic coast), NMFS finds merit in the SAFMC's request to forego further development of a joint FMP, and to develop an FMP for the U.S. Atlantic coast.

Inclusion of dolphin in the proposed FMP also would require removal of the U.S. Atlantic Ocean component of the dolphin stock from management in the Coastal Migratory Pelagics (CMP) FMP. The CMP FMP is implemented under authority of the Magnuson-Stevens Act by regulations at 50 CFR part 622. The CMP FMP is a joint plan involving both the GMFMC and SAFMC, and species in the fishery include king mackerel, Spanish mackerel, cero, cobia, dolphin, little tunny, and in the Gulf only, bluefish. Presently, the only regulations in the CMP FMP that pertain to dolphin are those that specify authorized fishing gears in the Atlantic and Gulf of Mexico exclusive economic zone. Removal of the U.S. Atlantic component of the dolphin stock from the CMP FMP would require a plan amendment and would have to be approved by a majority of the voting members, present and voting, of both the SAFMC and GMFMC. Wahoo in the Atlantic, the Gulf of Mexico, and Caribbean Sea, is not included in any Federal FMP.

NMFS requests public comments on the South Atlantic Council's proposal to be designated as the lead Council to prepare a new FMP to manage dolphin and wahoo for the U.S. Atlantic coast. Written comments will be reviewed and considered prior to NMFS' decision on this request.

Authority: 16 U.S.C. 1801 et seq.

Dated: November 15, 2002.
Bruce C. Morehead,
Acting Director, Office of Sustainable Fisheries, National Marine Fisheries Service.

[FR Doc. 02-29685 Filed 11-20-02; 8:45 am]

BILLING CODE 3510-22-S